DEPARTMENT OF THE INTERIOR

Fish and Wildlife Service

Receipt of Application for Endangered Species Permit: Permits for Scientific Purposes, Enhancement of Propagation or Survival (i.e., Recovery Permits), and Interstate Commerce Permits

AGENCY: Fish and Wildlife Service, Interior.

ACTION: Notice of receipt of application for endangered species permit.

SUMMARY: The following applicants have applied for permits to conduct certain activities with endangered species. This notice is provided pursuant to section 10(c) of the Endangered Species Act of 1973, as amended (16 U.S.C. 1531 et seq.).

DATES: Written data or comments on these applications must be received, at the address given below, by April 3, 2003.

ADDRESSES: U.S. Fish and Wildlife Service, 1875 Century Boulevard, Suite 200, Atlanta, Georgia 30345 (Attn: Victoria Davis, Permit Biologist). Telephone: 404/679-4176; Facsimile: 404/679-7081.

FOR FURTHER INFORMATION CONTACT: Victoria Davis, Telephone: 404/679-4176; Facsimile: 404/679-7081.

SUPPLEMENTARY INFORMATION: If you wish to comment, you may submit comments by any one of several methods. You may mail comments to the Service's Regional Office (see ADDRESSES). You may also comment via the Internet to victoria_davis@fws.gov. Please submit comments over the internet as an ASCII file avoiding the use of special characters and any form of encryption. Please also include your name and return address in your internet message. If you do not receive a confirmation from the Service that we have received your internet message, contact us directly at either telephone number listed above (see FOR FURTHER INFORMATION). Finally, you may hand deliver comments to the Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety. Documents and other information submitted with these applications are available for review, subject to the requirements of the Privacy Act and Freedom of Information Act, by any party who submits a written request for a copy of such documents to the following office within 30 days of the date of publication of this notice:

Applicant: Assistant Regional Director, Ecological Services, Fish and Wildlife Service, Southeast Region, Atlanta, Georgia, TE697819-2.

The applicant requests renewal of the existing authorization to take, or remove and reduce to possession, all wildlife and plant species listed as threatened or endangered in 50 CFR parts 17.11 and 17.12, from throughout these species' ranges in North Carolina, South Carolina, Georgia, Florida, Alabama, Mississippi, Tennessee, Kentucky, Arkansas, Louisiana, Puerto Rico, and the U.S. Virgin Islands. Activities authorized under this permit are for the purpose of enhancement of survival of the species which include but are not limited to collection of seeds, leaves, stems, and rhizomes; capture, release, and tracking using radio telemetry; and habitat disturbance while conducting population surveys and recovery activities.

Applicant: National Park Service-Buffalo National River, Superintendent Ivan D. Miller, Harrison, Arkansas, TE065726-0.

The applicant requests authorization to take (survey, capture, and release) the following endangered bats: Ozark big-eared bat (Corynohinus townsendii ingens), gray bat (Myotis grisescens), and Indiana bat (Myotis sodalis) while conducting presence/absence surveys in caves and abandoned mines. The proposed activities will take place in the Buffalo National River; Marion, Searcy, Baxter, and Newton Counties, Arkansas.

Applicant: John M. Alderman, Aquatic Endangered Species Biologist, Pittsboro, North Carolina, TE065756-0.

The applicant requests authorization to take (survey, capture, release, and collect relict shells) the following species: Tar River spinymussel (Elliptio steinstansana), James spinymussel (Pleurobema collina), dwarf wedgemussel (Alasmidonta heterodon), Appalachian elktoe (Alasmidonta raveneliana), littlewing pearlymussel (Pegias fabula), Waccamaw silverside (Menidia extensa), Cape Fear shiner (Notropis mekistocholas), and spotfin chub (Cyprinella monacha). Take may occur while conducting presence/absence or catch-per-unit-effort surveys. The proposed activities will take place in all river basins in North Carolina and South Carolina.

Applicant: Mississippi Department of Environmental Quality, Phil Bass, Pearl, Mississippi TE065948-0.

The applicant requests authorization to take (survey, capture, release, and collect relict shells) the following species: Cumberland combshell (Epioblasma brevidens), southern combshell (Pleurobema decisum), orangenacre mucket (Lampsilis perovalis), black clubshell (Pleuroblema curtum), southern clubshell (Pleuroblema decisum), flat pigtoe (Pleuroblema marshalli), ovate clubshell (Pleuroblema perovatum), heavy pigtoe (Pleuroblema taitianum), inflated heelsplitter (Potamilum inflatus), Stirrupshell (Quadrula stapes), gulf sturgeon (Acipenser oxyrinchus desotoi), and bayou darter (Etheostoma rubrum). Take may occur while conducting biological assessment activities. All species recognized as threatened or endangered will be released immediately. The proposed activities will take place throughout the state of Mississippi.

Applicant: Environmental Resource Analysts, Inc., Joseph Freda, Auburn, Alabama TE065979-0.

The applicant requests authorization to take (survey, capture, measure, release, and collect relict shells) the following species: eastern indigo snake (Drymarchon couperi), purple bankclimber mussel (Elliptoideus sloatianus), shiny-rayed pocketbook mussel (Lampsilis subangulata), gulf moccasinshell mussel (Medionidus penicillatus), and oval pigtoe mussel (Pleurobema pyriforme). Take may occur while conducting presence/absence surveys in Clay County, Georgia. All species recognized as threatened or endangered will be released immediately. The proposed aquatic activities will take place in small creeks of the Chattahochee River, including Drag Nasty Creek, Pataula Creek, Crooked Creek, Sany Branch, and Sandy Creek. Gopher tortoise burrows within the project area will be surveyed to determine the presence of the eastern indigo snake.

Applicant: U.S. Forest Service, Ozark-Saint Francis National Forests, Forest Supervisor, Russellville, Arkansas TE065972-0.

The applicant requests authorization to take (survey, monitor, capture, measure, release, and collect relict shells) the following species: gray bat (Myotis grisescens), Indiana bat (Myotis sodalis), Ozark big-eared bat (Corynorhinus townsendii ingens), bald eagle (Haliaeetus leucocephalas), interior least tern (Sterna antillarum), fat pocketbook (Potamilus capax), scaleshell (Leptodea leptodon), pink mucket (Lampsilis abrupta), pallid sturgeon (Scaphirhynchus albus), cave crayfish (Cambarus aculabrum), cave crayfish (Cambarus zophonastes), Magazine Mountain shagreen (Inflectarius magazinensis), American burying beetle (Nicrophorus americanus), American alligator (Alligator mississippiensis), Geocarpon minimum (Geocarpon), and Lesquerella filiformis (Missouri bladderpod). Take may occur while conducting presence/absence surveys and during monitoring and management of the populations. The proposed activities will take place on the Ozark-Saint Francis National Forest; Baxter, Benton, Conway, Crawford, Franklin, Johnson, Lee, Logan, Madison, Newton, Phillips, Searcy, Stone, Van Buren, Washington, and Yell Counties, Arkansas.

Dated: February 21, 2003.
Sam D. Hamilton,
Regional Director.

[FR Doc. 03-4987 Filed 3-3-03; 8:45 am]

BILLING CODE 4310-55-P